DEPARTMENT OF AGRICULTURE

Performance Review Board Appointments

AGENCY: Office of Human Resource Management, Departmental Management, USDA.

ACTION: Notice of appointment.

SUMMARY: This notice announces the appointment of the members of the Senior Executive Service (SES) and Senior Level (SL) and Scientific or Professional (ST) Performance Review Boards (PRB) for the Department of Agriculture, as required by 5 U.S.C. 4314(c)(4). Agriculture has a total of six PRBs: the Secretary's PRB; Departmental Management and Staff Offices PRB; Natural Resources and Environment PRB; Farm and Foreign Agricultural Services, Rural Development, Food, Nutrition and Consumer Services PRB; Marketing and Regulatory Programs, Food Safety PRB; and Research, Education, and Economics PRB. The PRBs comprise career and noncareer executives and Chairpersons to make recommendations on the performance of executives to the Secretary, including performance ratings and bonuses for SES, SL, and ST employees. The boards meet annually to review and evaluate performance appraisal documents and provide written recommendations to the Secretary for final approval of performance ratings and base salary adjustments.

SUPPLEMENTARY INFORMATION: In accordance with 5 U.S.C. 4314(c)(4), the following executives may be appointed by mission areas to the USDA PRBs:

Office of the Secretary

Baenig, Brian; Batta, Todd; Gonzales, Oscar; Harden, Krysta.; Holtzman, Max T.; MacMillan, Anne; Wheelock, Leslie.

Departmental Management (OAO, OALJ, OCIO, OHRM, OHSEC, OJO, OO, OPPM, and OSDBU) and Staff Offices (OASCR, OCE, OC, OCFO, OCR, OGC and NAD)

Bange, Gerald A.; Baumes, Harry S.; Bender, Stuart; Bice, Donald; Black, David O. ; Brady, Terence M.; Brewer, John; Bumbary-Langston, Inga P.; Chasteen, G. Taylor; Christian, Lisa A.; Clanton, Michael W.; Coffee, Richard; Cook, Cheryl L.; Davenport, Peter; Foster, Andrea L.; Glauber, Joseph; Grahn, David P.; Hawk, Gilbert; Heard, Robin; Hohenstein, William G.; Holladay, Jon; Hunter, Joyce; Jackson, Yvonne T.; Jeanquart, Roberta; Jenson, William; Johansson, Robert C.; Jones, Carmen; Jones, Diem Linh L.; Kelly, Janet Karlease; Klurfeld, Roger J.; Leland, Arlean; Leonard, Joe; Linden, Ralph A.; Lippold, David; Lowe, Christopher S.; Lowe, Stephen O.; Maddux, Sheryl; McClam, Charles; Milton, William; Moulton, Robert Jeffrey; Parker, Carolyn C.; Parham, Gregory L.; Paul, Matt; Pfaeffle, Frederick; Pino, Lisa; Repass, Todd; Robinson, Quinton; Romero, Ramona; Ruiz, Carl Martin; Shearer, David P.; Shorter, Malcom; Speed, Randy L.; Turner, Calvin; Vos, John P.; Wallace, Charles; Ware, Joseph A.; Washington, Gary S.; White, John S.; Wilburn, Curtis; Wiley, Curtis; Wilusz, Lisa; Wright, Ann; Young, Benjamin; Young, Mike; Zehren, Christopher J.

Marketing and Regulatory Programs (MRP)

Avalos, Ed; Cordova, Elvis; Walsh, Joani L.

Agricultural Marketing Service

Alonzo, Anne; Bailey, Douglas; Barnes, Rex; Coale, Dana; Earnest, Darryl; Guo, Ruihong; McEvoy, Miles; Morris, Craig; Neal, Arthur; Parrott, Charles W.

Animal and Plant Health Inspection Service

Bandla, Murali; Bech, Rebecca; Berger, Philip; Blakely, Cheryle L.; Brown, Charles; Clark, Larry; Clay, William; Clifford, John; Davidson, Mark L.; Diaz-Soltero, Hilda; Dick, Jere; El Lissy, Osama A.; Firko, Michael J.; Gipson, Chester A.; Granger, Larry; Gregoire, Michael; Grode, Jeffrey; Hill, Jr., Richard; Hoffman, Neil E.; Holland, Marilyn; Huttenlocker, Robert; Jones, Bethany; Juarez, Bernadette; Kaplan, David; Lautner, Elizabeth; Levings, Randall L.; McCammon, Sally L.; McCluskey, Brian; Mendoza, Jr., Martin; Morgan, Andrea; Murphy, Virginia; Myers, Thomas; Royer, Matthew; Shea, Kevin; Shere, Jack; Simmons, Beverly; Smith, Cynthia; Thiermann, Alejandro B.; Thompson, Barbara L.; Watson, Michael T.; Washington, Gary S.; Wiggins, Marsha A.; Zakarka, Christine.

Grain Inspection, Packers and Stockyards Administration

Alonzo, Mary C.; Jones, Randall; Keith, Susan; Mitchell, Lawrence W.

Food Safety

Hagen, Elisabet;, Ramos, Adela; Ronholm, Brian; Almanza, Alfred; Banegas, Ronald; Basu, Parthapratim; Blake, Carol L.; Chen, Vivian; Dearfield, Kerry L.; Derfler, Philip; Edelstein, Rachel; Engeljohn, Daniel; Esteban, Jose Emilio; Garcia, Joseph L.; Gilmore, Keith Allyn; Hill, Joseph; Jones, Ronald; Kause, Janell R.; Lowe, Mary F.; Mian, Haroon S.; Myers, Jacqueline; Nintemann, Terri; Roth, Jane; Sidrak, Hany Z.; Smith, William; Stevens, Janet; Tawadrous, Armia; Tohamy, Soumaya M.; Watts, Michael.

Farm and Foreign Agricultural Services

Gutter, Karis T.; Scuse, Michael; Taylor, Alexis; Vetter, Darci.

Foreign Agricultural Service

Foster, Christian; Karsting, Philip; Nuzum, Janet; Palmieri, Suzanne; Quick, Bryce; Riemenschneider, Robert; Sheikh, Patricia.

Farm Service Agency

Beyerhelm, Christopher; Dean, Telora T.; Diephouse, Gregory; Garcia, Juan M.; Gwinn, James; Harwood, Joy; Monahan, James; Rucker, Mark A.; Schmidt, John M.; Stephenson, Robert; Thompson, Candace; Trimm, Alan; Ward, Bruce Edward; Ware, Heidi Grace.

Risk Management Agency

Alston, Michael; Hand, Michael; Nelson, Leiann H.; Willis, Brandon C.; Witt, Timothy; Worth, Thomas W.

Food, Nutrition and Consumer Services (FNCS)

Arena-DeRosa, James; Arnette, Donald; Bailey Jr., Robin David; Barnes, Darlene; Burr, David Glenn; Christenson, Daniel Richa; Concannon, Kevin; Dombroski, Patricia; English, Timothy D.; Jackson, Yvette S.; Kane, Deborah J.; Ludwig, William; Mande, Jerold; Post, Robert C.; Rowe, Audrey; Shahin, Jessica; Thornton, Jane; Tribiano, Jeffrey.

Rural Development (RD)

Ferguson, Katherine; Kunesh, Patrice; O'Brien, Doug.

Rural Business Service

Hadjy, Pandor; Parker, Chadwick O.

Rural Housing Service

Allen, Joyce; Banegas, Ronald; Davis, Richard A.; Glendenning, Roger; Hannah, Thomas; Hooper, Bryan; Primrose, Edna; Ross, Robert H.; Salguero, Francisco.

Rural Utilities Service

Ackerman, Kenneth; Adams, Keith; Adelstein, Jonathan S.; Bojes, Gary; Elgohary, Nivin; Padalino, John C.; Ponti-Lazaruk, Jacqueline; Zufolo, Jessica.

Natural Resources and Environment

Blazer, Arthur; Bonnie, Robert Farrell; Harrell, Meryl; Mills, Ann C.

Forest Service

Agpaoa, Elizabeth; Atkinson, Kathleen; Bedwell, James; Blount, Emilee; Brown, Thomas C.; Bryant, Arthur; Bytnerowicz, Andrzej; Christiansen, Victoria; Cleaves, David A.; Cohen, Warren Bruce; Coleman, Angela V.; Connaughton, Kent P.; Cordell, Harold K.; Cullen, Daniel; DeCoster, Timothy P.; Dixon, Antione; Doudrick, Robert; Ferguson, Tony; Ferrell, David L.; Foster, George S.; Friend, Alexander L.; Grant, Gordon E.; Guldin, Richard; Gutman, Theodore H.; Hammel, Kenneth E.; Harbour, Thomas C.; Hubbard, James E.; Iverson, Louis R.; Jiron, Daniel J.; Joyner, Calvin N.; Krueger, Faye L.; Lago, Jacquelyn L.; Lemly, A. Dennis; Lepore, Mary Beth; Lugo, Ariel E.; Mangold, Robert D.; McGuire, Jennifer; Meade, Joe L.; Meinzer, Frederick C.; Mezainis, Valdis E.; Moore, Randy; Myers, Jr., Charles L.; Nash, Douglas R.; Pena, James M.; Pendleton, Beth G.; Peterson, David L.; Phipps, John E.; Rains, Michael T.; Raphael, Martin G.; Rasure, Nora B.; Reaves, Jimmy L.; Richmond, Charles S.; Ries, Paul F.; Rodriguez-Franco, Carlos; Ross, Robert J.; Sears, George A.; Shortle, Walter C.; Smith, Gregory C.; Spies, Thomas A.; Stanturf, John A.; Strong, Thelma J.; Thompson III, Frank R.; Tidwell, Thomas; Tooke, Tony; Vose, James M.; Wagner, Mary A.; Wear, David; Weldon, Leslie; West, Cynthia.

Natural Resources Conservation Service

Barry, Gayle N.; Boozer, Astor F.; Christensen, Thomas; Coleman, Ray-Deleon J.; Erickson, Terrell; Gelburd, Diane; Golden, Micheal; Herbert, Noller; Honeycutt, C. Wayne; Jordan, Leonard; Kramer, Anthony; Kunze, Stephen; Laur, Michele; Perry, Janet; Reed, Lesia; Salinas, Salvador; Sims, Richard; Smith, David W.; Suarez Oliva, Carlos; Weller, Jason; Wilkes, Homer L.

Research, Education and Economics

Abebe, Yeshimebet; Bartuska, Ann; Onwulata, Charles; Ramaswamy, Gita; Woteki, Catherine.

Agricultural Research Service

Ahuja, Lajpat R.; Allen, Lindsay; Arnold, Jeffrey G.; Baldus, Lisa; Brennan, Deborah; Brenner, Richard; Bretting, Peter K.; Chandler, Laurence; Cleveland, Thomas; Cregan, Perry B.; Erhan, Sevin; Fayer, Ronald; Gay, Cyril G.; Gibson, Paul; Gottwald, Timothy R.; Hackett, Kevin J.; Hammond, Andrew; Harris, Ellen; Hatfield, Jerry L.; Hefferan, Colien; Huber, Steven C.; Hunt, Patrick G.; Jackson, Thomas J.; Jacobs-Young, Chavonda; Jenkins, Johnie Norton; Kappes, Steven; King, Jr., Edgar; Klesius, Phillip Harry; Kochian, Leon V.; Kunickis, Sheryl; Lillehoj, Hyun S.; Lindsay, James A.; Liu, Simon; Loper, Joyce E.; Magill, Robert; Marshall, David; Matteri, Robert; Mattoo, Autar K.; McGuire, Michael; McMurtry, John; Nackman, Ronald J.; Ort, Donald R.; Pollak, Emil; Rango, Albert; Rexroad, Jr., Caird; Riley, Ronald T.; Sebesta, Paul; Shafer, Steven; Simmons, Mary W.; Smith, Timothy P.; Spence, Joseph; Suarez, David Lee; Swietlik, Dariusz; Teal, Peter; Upchurch, Dan; Vogel, Kenneth P.; Whalen, Maureen; Willett, Julious L.; Yates, Allison; Zhang, Howard.

Economic Research Service

Bianchi, Ronald; Bohman, Mary; Munisamy, Gopinath; Pompelli, Gregory K.; Variyam, Jayachandran N.; Weinberg, Marca J.

National Agricultural Statistics Service

Barnes, Kevin L.; Bass, Robert; Bennett, Norman; Clark, Cynthia; Hamer, Jr., Hubert; Harris, James Mark; Parsons, Joseph L.; Picanso, Robin; Prusacki, Joseph; Reilly, Joseph; Valivullah, Michael.

National Institute of Food and Agriculture

Broussard, Meryl; Desbois, Michel; Holland, Robert E.; Montgomery, Cynthia R.; Otto, Ralph; Qureshi, Muquarrab A.; Ramaswamy, Sony; Sheely, Deborah.

DATES: Effective October 24, 2013.

FOR FURTHER INFORMATION CONTACT: William Milton, Director, Office of Human Resources Management, telephone: (202) 690-2139, email: william.milton@dm.usda.gov. or Patricia Moore, Director, Executive Resources Management Division, telephone: (202) 720-8629, email: patty.moore@dm.usda.gov.

Dated: November 1, 2013.
Thomas J. Vilsack,
Secretary.

[FR Doc. 2013-27124 Filed 11-12-13; 8:45 am]

BILLING CODE 3410-96-P